NUCLEAR REGULATORY COMMISSION

Sunshine Act Meeting Notice

AGENCY: Nuclear Regulatory Commission.

DATE: Week of January 17, 2005.

PLACE: Commissioners' Conference Room, 11555 Rockville Pike, Rockville, Maryland.

STATUS: Public.

ADDITIONAL MATTERS TO BE CONSIDERED:

Week of January 17, 2005

Tuesday, January 18, 2005

9:55 a.m. Affirmation Session (Public Meeting) (Tentative).

a. System Energy Resources Inc. (Early Site Permit for Grand Gulf Nuclear Site), Docket Number 52-009, Appeal by National Association for the Advancement of Colored People—Claiborne County, Mississippi Branch, Nuclear Information Service, Public Citizen, and Mississippi Chapter of the Sierra Club from LBP-04-19. (Tentative).

b. Louisiana Energy Services, L.P. (National Enrichment Facility) (Tentative).

*The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at (301) 415-7080, TDD: (301) 415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301) 415-1969). In addition, distribution of this meeting notice over the Internet system is available. If you are interested in receiving this Commission meeting schedule electronically, please send an electronic message to dkw@nrc.gov.

Dated: January 11, 2005.
Dave Gamberoni,
Office of the Secretary.

[FR Doc. 05-890 Filed 1-12-05; 9:32 am]

BILLING CODE 7590-01-M